DEPARTMENT OF VETERANS AFFAIRS

[OMB Control No. 2900-0771]

Agency Information Collection Activity: Insurance Customer Satisfaction Surveys

AGENCY: Veterans Benefits Administration, Department of Veterans Affairs.

ACTION: Notice.

SUMMARY: Veterans Benefits Administrations, Department of Veterans Affairs (VA), is announcing an opportunity for public comment on the proposed collection of certain information by the agency. Under the Paperwork Reduction Act (PRA) of 1995, Federal agencies are required to publish notice in the Federal Register concerning each proposed collection of information, including each proposed reinstatement of a previously approved collection, and allow 60 days for public comment in response to the notice. This notice solicits comments on information needed from Veterans to determine the level of satisfaction with existing services among its customers. The 10 surveys are: Beneficiary Survey, Cash Surrender Survey, Correspondence Survey, Insurance Claims Survey, Policy Loan Survey, Service-Disabled Veterans Insurance (S-DVI) Survey, Waiver Survey, Veterans Mortgage Life Insurance (VMLI) Survey, Telephone Insurance Claims Survey, and Telephone Policy Service Survey, The surveys solicit voluntary opinions and are not intended to collect information required to obtain or maintain eligibility for a Department of Veterans Affairs (VA) program or benefit.

DATES: Written comments and recommendations on the proposed collection of information should be received on or before January 30, 2023.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0771” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0771” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Insurance Customer Satisfaction Surveys.

OMB Control Number: 2900-0771.

Type of Review: Reinstatement of a previously approved collection.

Abstract: The Insurance Service (29) conducts surveys to determine the level of satisfaction with existing services among its customers. The 10 surveys are: Beneficiary Designation Survey, Cash Surrender Survey, Correspondence Survey, Insurance Claims Survey, Policy Loan Survey, Service-Disabled Veterans' Insurance (S-DVI) Survey, Waiver Survey, Veterans' Mortgage Life Insurance (VMLI) Survey, Telephone Insurance Claims Survey, and Telephone Policy Service Survey, The surveys solicit voluntary opinions and are not intended to collect information required to obtain or maintain eligibility for a Department of Veterans Affairs (VA) program or benefit.

Affected Public: Individuals and households.

Estimated Annual Burden: 444 hours.

Estimated Average Burden per Respondent: 6 minutes.

Frequency of Response: Once.

Estimated Number of Respondents: 4,440.

By direction of the Secretary.
Dorothy Glasgow,
VA PRA Clearance Officer, (Alt.) Office of Enterprise and Integration/Data Governance Analytics, Department of Veterans Affairs.

[FR Doc. 2022-26203 Filed 11-30-22; 8:45 am]

BILLING CODE 8320-01-P